ENVIRONMENTAL PROTECTION AGENCY

[FRL-7138-3]

Meeting on Development of a Metals Assessment Framework

AGENCY: Environmental Protection Agency (EPA).

ACTION: Notice of meeting.

SUMMARY: EPA assesses the hazard and risk of metals and metal compounds in implementing its various legislative mandates. Public comments on recent Agency actions and examination of lead's bioaccumulation potential by an ad hoc technical panel of the Agency's Risk Assessment Forum have demonstrated the need for the development of comprehensive, cross-agency guidance for assessing the hazards and risks of metal and metal compounds that could be the basis for future Agency actions. The goal of this cross-agency guidance will be to articulate a consistent approach for assessing the hazards and risks of metals and metal compounds, based on application of all available data to a uniform and expanded characterization framework. This guidance will be applied to assessments of human health and ecological risk, ranging from site-specific situations to national assessments carried out for the purposes of priority setting, information collection, and/or air and water quality standards setting. This could involve reviewing a broad range of physico-chemical properties and may suggest more of a case-by-case (i.e., metal by metal) approach to evaluating metals and metal compounds.

Under the auspices of the Agency's Science Policy Council, the Agency is embarking on the development of this assessment framework for metals. The first step in the process is formulation of an Action Plan that will identify key scientific issues specific to metals and metal compounds that need to be addressed by the framework, potential approaches to consider for inclusion in the framework including models and methods, an outline of the framework, and the necessary steps to complete the framework.

EPA is announcing a public meeting to provide an opportunity for interested parties to provide the Agency with information relevant to development of the framework. Eastern Research Group, Inc., (ERG) an EPA contractor, is organizing and convening the meeting. EPA is particularly interested in the public's perspectives on the following:

a. What organizing principles should the framework follow?

b. What scientific issues should the framework address?

c. What methods and models should be considered for inclusion in the framework?

d. What specific steps should be taken to further involve the public and the scientific community in the development of the framework?

The purpose of this meeting is for EPA to collect comments from the public. Therefore, although EPA staff will be present to accept the comments, EPA will not evaluate or respond to comments at the meeting. In addition, although EPA will review the comments submitted as it proceeds, it will not formally respond to each individual comment. EPA is not reconsidering any past Agency actions, and therefore EPA is not soliciting comments on past Agency actions. Because EPA is not soliciting comments on past Agency actions, comments regarding past Agency actions will not be considered.

EPA plans to provide the Action Plan to the Science Advisory Board in a consultation. Following the consultation, EPA will proceed with development of the framework which will be subsequently reviewed by the Science Advisory Board.

DATES: The public meeting will be held Wednesday, February 20, 2002 from 9 a.m. to 4 p.m. EPA urges participants to register with ERG by February 14, 2002 to attend.

ADDRESSES: The public meeting will be held at the Holiday Inn Washington Capitol Hotel, 550 C Street SW., Washington DC 20024. To attend, register by February 14, 2002 by calling ERG at 781-674-7374 or sending a facsimile to 781-674-2906. You may also register by sending e-mail to meetings@erg.com. If registering by e-mail, please provide complete contact information and identify the meeting by name and date. Space is limited, and reservations will be accepted on a first-come, first-served basis. Please let ERG know if you wish to make comments.

Comments may be mailed to the Technical Information Staff (8623D), NCEA-W, U.S. Environmental Protection Agency, 1200 Pennsylvania Avenue, NW., Washington, DC 20460, or delivered to the Technical Information Staff at 808 17th Street, NW, 5th Floor, Washington, DC 20006; telephone: 202-564-3261; facsimile: 202-565-0050. The EPA mail room does not accept courier deliveries. Electronic comments may be e-mailed to: nceadc.comment@epa.gov.

FOR FURTHER INFORMATION CONTACT: For meeting information, registration, and logistics, contact ERG, 110 Hartwell Avenue, Lexington, Massachusetts 02421; telephone: 781-674-7374; facsimile: 781-674-2906.

For information on development of the framework, contact John Whalan; USEPA (Code 7601D), 1200 Pennsylvania Avenue NW., Washington DC 20460, telephone: 202-564-8461; facsimile: 202-564-8452; or e-mail: whalan.john@epa.gov.

SUPPLEMENTARY INFORMATION:

Presentations

Members of the public who are interested in making a short presentation on a particular issue at the meeting are requested to indicate this interest at the time of registration. EPA would appreciate provision of a short summary of the presentation, which should be no more than one page. Please provide this summary in written and electronic format upon arrival at the meeting. Presentations should be no more than 15 minutes in duration. Because EPA is seeking a variety of opinions, the facilitator will ensure that there is a balance of viewpoints.

Comments

Comments should be in writing. Please submit one unbound original with pages numbered consecutively, and three copies of the comments. For attachments, provide an index, number pages consecutively with the comments, and submit an unbound original and three copies.

Please note that all comments received in response to this notice will be placed in a public record. For that reason, commentors should not submit personal information (such as medical data or home address), Confidential Business Information, or information protected by copyright. Due to limited resources, acknowledgments will not be sent.

Dated: February 1, 2002.
William H. Farland,
Acting Assistant Administrator, Office of Research and Development.

[FR Doc. 02-2836 Filed 2-5-02; 8:45 am]

BILLING CODE 6560-50-P